DEPARTMENT OF COMMERCE

Foreign-Trade Zones Board

[B-34-2020]

Foreign-Trade Zone (FTZ) 102—St. Louis, Missouri; Authorization of Production Activity; H-J Enterprises, Inc./H-J International, Inc. (Electrical Transformer Components and Kits); High Ridge, Missouri

On June 1, 2020, H-J Enterprises, Inc./H-J International, Inc. (H-J) submitted a notification of proposed production activity to the FTZ Board for its facilities within Subzone 102E, in High Ridge, Missouri.

The notification was processed in accordance with the regulations of the FTZ Board (15 CFR part 400), including notice in the Federal Register inviting public comment (85 FR 35260-35261, June 9, 2020). On September 29, 2020, the applicant was notified of the FTZ Board's decision that no further review of the activity is warranted at this time. The production activity described in the notification was authorized, subject to the FTZ Act and the FTZ Board's regulations, including Section 400.14.

Dated: September 29, 2020.
Andrew McGilvray,
Executive Secretary.

[FR Doc. 2020-21824 Filed 10-1-20; 8:45 am]

BILLING CODE 3510-DS-P